DEPARTMENT OF THE TREASURY

Customs Service

Cancellation of Customs Broker License Due to Death of the License Holder

AGENCY: U.S. Customs Service, Department of the Treasury.

ACTION: Cancellation of License.

SUMMARY: Notice is hereby given that, pursuant to 19 CFR 111.53(g), the following individual Customs broker license has been cancelled due to death of the broker:

Name | License | Port Name
Benjamin J. Hernandez | 09375 | Seattle

Dated: March 8, 2002.
Bonni G. Tischler,
Assistant Commissioner, Office of Field Operations.

[FR Doc. 02-7538 Filed 3-28-02; 8:45 am]

BILLING CODE 4820-02-P